Title 3—

The President

Proclamation 8464 of December 9, 2009

Human Rights Day, Bill of Rights Day, And Human Rights Week, 2009

By the President of the United States of America

A Proclamation

More than 60 years ago, the United Nations General Assembly approved the Universal Declaration of Human Rights, declaring the “inherent dignity” and “equal and inalienable rights” of all human beings as the “foundation of freedom, justice and peace in the world.” This self-evident truth guides us today. Although every country and culture is unique, certain rights are universal: the freedom of people—including women and ethnic and religious minorities—to live as they choose, speak their minds, organize peacefully and have a say in how they are governed, with confidence in the rule of law. History shows that countries that protect these rights are ultimately more stable, secure, and successful.

In the United States, these fundamental rights are the core of our Declaration of Independence, our Constitution, and our Bill of Rights. They are the values that define us as a people, the ideals that challenge us to perfect our union, and the liberties that generations of Americans have fought to preserve at home and abroad. Indeed, fidelity to our fundamental values is one of America’s greatest strengths and the reason we stand in solidarity with those who seek these rights, wherever they live.

Human Rights Day, Bill of Rights Day, and Human Rights Week must be our call to action. As Americans, we must keep striving to live up to our founding ideals. As a Nation, the United States will always side with the innocent whose rights are denied, the oppressed who yearn for equality, and all those around the world who strive for freedom. As members of what President Franklin Roosevelt called “the human community,” we will never waver in our pursuit of the rights, dignity, and security of every human being.

NOW, THEREFORE, I, BARACK OBAMA, President of the United States of America, by virtue of the authority vested in me by the Constitution and the laws of the United States, do hereby proclaim December 10, 2009, as Human Rights Day; December 15, 2009, as Bill of Rights Day; and the week beginning December 10, 2009, as Human Rights Week. I call upon the people of the United States to mark these observances with appropriate ceremonies and activities.

IN WITNESS WHEREOF, I have hereunto set my hand this ninth day of December, in the year of our Lord two thousand nine, and of the Independence of the United States of America the two hundred and thirty-fourth.

[FR Doc. E9-29865

Filed 12-11-09; 11:15 am]

Billing code 3195-W0-P